ENVIRONMENTAL PROTECTION AGENCY

[FRL 9921-30-Region 2]

Tentative Approval and Solicitation of Request for a Public Hearing for Public Water System Supervision Program Revision for Puerto Rico

AGENCY: Environmental Protection Agency (EPA).

ACTION: Notice.

SUMMARY: Notice is hereby given that the Commonwealth of Puerto Rico is revising its approved Public Water System Supervision Program to adopt the Environmental Protection Agency's (EPA)'s National Primary Drinking Water Regulations for one major rule. The EPA has determined that this revision is no less stringent than the corresponding Federal regulations. Therefore, the EPA intends to approve this program revision. All interested parties may request a public hearing.

DATES: A request for a public hearing must be submitted to the Regional Administrator at the address shown below March 23, 2015. If no timely and appropriate request for a hearing is received and the Regional Administrator does not elect to hold a hearing on her own motion, this determination shall become final and effective March 23, 2015. More information on requesting a public hearing can be found in the SUPPLEMENTARY INFORMATION section of this document.

ADDRESSES: Requests for Public Hearing shall be addressed to: Regional Administrator, U.S. Environmental Protection Agency—Region 2, 290 Broadway, New York, New York 10007-1866.

All documents relating to this determination are available for inspection between the hours of 9:00 a.m. and 4:30 p.m., Monday through Friday, excluding legal holidays, at the following offices:

Puerto Rico Department of Health, PO Box 70184, San Juan, Puerto Rico 00936-8184

U.S. Environmental Protection Agency—Region 2, 24th Floor Drinking Water Ground Water Protection Section, 290 Broadway, New York, New York 10007-1866

FOR FURTHER INFORMATION CONTACT: Michael J. Lowy, Drinking Water Ground Water Protection Section, U.S. Environmental Protection Agency—Region 2, (212) 637-3830.

SUPPLEMENTARY INFORMATION: Notice is hereby given that the United States Environmental Protection Agency (EPA) has determined to approve an application by the Commonwealth of Puerto Rico Department of Health to revise its Public Water Supply Supervision Primacy Program to incorporate a regulation no less stringent than the EPA's National Primary Drinking Water Regulations (NPDWR) for National Primary Drinking Water Regulation: Revisions to the Total Coliform Rule, Final Rule, promulgated by EPA February 13, 2013 (78 FR 10269).

The application demonstrates that Puerto Rico has adopted drinking water regulations which satisfy the NPDWRs for the above. The USEPA has determined that Puerto Rico's regulations are no less stringent than the corresponding Federal Regulations and that Puerto Rico continues to meet all requirements for primary enforcement responsibility as specified in 40 CFR 142.10.

Authority: (Section 1413 of the Safe Drinking Water Act, as amended, 40 U.S.C. 300g-2, and 40 CFR 142.10, 142.12(d) and 142.13).

This determination to approve Puerto Rico's primacy program revision application is made pursuant to 40 CFR 142.12(d)(3). It shall become final and effective unless (1) a timely and appropriate request for a public hearing is received or (2) the Regional Administrator elects to hold a public hearing on her own motion. Any interested person, other than Federal Agencies, may request a public hearing.

If a substantial request for a public hearing is made within the requested thirty day time frame, a public hearing will be held and a notice will be given in the Federal Register and a newspaper of general circulation. Frivolous or insubstantial requests for a hearing may be denied by the Regional Administrator.

Any request for a public hearing shall include the following information: (1) Name, address and telephone number of the individual, organization or other entity requesting a hearing; (2) a brief statement of the requesting person's interest in the Regional Administrator's determination and a brief statement on information that the requesting person intends to submit at such hearing; and (3) the signature of the individual making the requests or, if the request is made on behalf of an organization or other entity, the signature of a responsible official of the organization or other entity.

Dated: January 28, 2015.
Judith A. Enck,
Regional Administrator, Region 2.

[FR Doc. 2015-03477 Filed 2-18-15; 8:45 am]

BILLING CODE 6560-50-P